FEDERAL COMMUNICATIONS COMMISSION

47 CFR Part 73

[DA 04-2146, MM Docket No. 01-135, RM-10154, RM-10326, RM-10327]

Radio Broadcasting Services; Bunkerville, Caliente, Laughlin, Logandale, NV; Mohave Valley, AZ; St. George, UT

AGENCY: Federal Communications Commission.

ACTION: Final rule.

SUMMARY: This document grants a counterproposal to reallot and change the community of license for Station KZHK(FM), Channel 240C, St. George, UT, to Bunkerville, NV, and to upgrade, reallot, and change the community for Station KADD(FM) from Channel 228C1 at Laughlin, NV to Channel 288C at Logandale, NV. The also document also dismisses a proposal to allot Channel 291C2 at Caliente, NV, because neither the petitioner nor any other party filed a continuing expression of interest in the proposed allotment. Finally, the document dismisses a counterproposal to reallot and change the community of license for Station KPLD(FM), Channel 266C, from Kanab to Moapa, UT. See 66 FR 35768, July 9, 2001. See also SUPPLEMENTARY INFORMATION.

DATES: Effective January 5, 2005.

FOR FURTHER INFORMATION CONTACT: Andrew J. Rhodes, Media Bureau, (202) 418-2180.

SUPPLEMENTARY INFORMATION: This is a synopsis of the Commission's Report and Order, MM Docket 01-135, adopted September 1, 2004, and released September 3, 2004. The full text of this decision is available for inspection and copying during normal business hours in the FCC's Reference Information Center at Portals II, CY-A257, 445 12th Street, SW., Washington, DC. The complete text of this decision may also be purchased from the Commission's duplicating contractor, Best Copy and Printing, Inc., 445 12th Street, SW., Room CY-B402, Washington, DC 20554, telephone 1-800-378-3160 or http://www.BCPIWEB.com. The Commission will send a copy of the Report and Order in this proceeding in a report to be sent to Congress and the General Accounting Office pursuant to the Congressional Review Act, see 5 U.S.C. 801(a)(1)(A).

The reference coordinates for Channel 240C at Bunkerville, NV, and Channel 228C at Logandale, NV are 36-50-52 and 114-28-37, are 36-50-52 and . To accommodate these reallotments, the document (1) substitutes Channel 229A for vacant Channel Channel 240A at Mohave Valley, AZ, at reference coordinates 34-55-40 and 114-35-51; and (2) substitutes Channel 291C2 for Channel 228C2 at St. George, UT, at reference coordinates 36-50-49 and 113-29-28 and modifies the license for Station KSNN(FM) accordingly.

List of Subjects in 47 CFR Part 73

Radio, Radio broadcasting.

Part 73 of title 47 of the Code of Federal Regulations is amended as follows:

PART 73—RADIO BROADCAST SERVICES

1. The authority citation for part 73 continues to read as follows:

Authority: 47 U.S.C. 154, 303, 334 and 336.

§ 73.202 [Amended]

2. Section 73.202(b), the Table of FM Allotments under Arizona, is amended by removing Channel 240A and adding Channel 229A at Mohave Valley.

3. Section 73.202(b), the Table of FM Allotments under Nevada, is amended by adding Bunkerville, Channel 240C, by removing Channel 228C1 at Laughlin and adding Logandale, Channel 228C.

4. Section 73.202(b), the Table of FM Allotments under Utah, is amended by removing Channel 240C at St. George.

Federal Communications Commission.
John A. Karousos,
Assistant Chief, Audio Division, Media Bureau.

[FR Doc. 04-22841 Filed 10-8-04; 8:45 am]

BILLING CODE 6712-01-P